DEPARTMENT OF AGRICULTURE

Forest Service

90-Day Comment Period on the Draft Cimarron and Comanche National Grasslands Land Management Plan (Draft Grasslands Plan)

AGENCY: The Pike and San Isabel National Forests and the Cimarron and Comanche National Grasslands, Forest Service, USDA.

Authority: 36 CFR 219.9(b)(2).

Notice: Commencement of 90-day comment period on the Draft Land Management Plan for the Cimarron and Comanche National Grasslands.

SUMMARY: The Pike and San Isabel National Forests and the Cimarron and Comanche National Grasslands have commenced a 90-day comment period, effective December 28, 2005, on the Draft Cimarron and Comanche National Grasslands Land Management Plan and supporting documents, including the environmental assessment (EA) and the finding of no significant impact (FONSI).

DATES: December 21, 2005.

FOR FURTHER INFORMATION CONTACT: Barb Masinton, 719-553-1475.

SUPPLEMENTARY INFORMATION: The Pike and San Isabel National Forests and the Cimarron and Comanche National Grasslands (PSICC) has commenced a 90-day comment period, effective December 28, 2005, on the Draft Cimarron and Comanche National Grasslands Management Plan (Draft Grasslands Plan); environmental assessment (EA) and finding of no significant impact (FONSI); and supporting documents for the Cimarron and Comanche National Grasslands. The comment period is from December 28, 2005 through April 3, 2006.

You are invited to review and comment on the Draft Grasslands Plan, EA/FONSI, and supporting documents by providing the Responsible Official (the Forest Supervisor) with information that you believe should be addressed in the final stages of the planning process. We are especially interested in comments on the Draft Grasslands Plan.

The documents that are available for review and comment include the following:

1. Draft Grasslands Plan, including applicable maps

2. The EA and FONSI

3. Evaluations of existing resource conditions and trends

4. Ecological sustainability evaluations

5. Species diversity evaluations

6. Economic and social sustainability evaluations

7. Wild and scenic river eligibility report

8. Scenery management systems evaluation

9. Roads analysis report

10. Reports on the historic range of variation for vegetation and watersheds

All documents can be viewed, accessed, and downloaded at the following Web site: http://www.fs.fed.us/r2/psicc/projects/forest_revision/. The Draft Grasslands Plan and the EA/FONSI are also available, by request, in paper copy or on CD.

Only those persons or organizations who participate in this 90-day comment period may object to the final Plan. Full participation in the planning process requires that written comments be received by the Responsible Official during the 90-day comment period. The opportunity to object to the final Plan will be during the 30-day objection period before Plan approval (36 CFR 219.13(a)). The most helpful comments would be about concerns, suggestions, or additions related to the following questions:

1. Does the Draft Grasslands Plan clearly state the desired conditions of the Grasslands and are they realistic and achievable?

2. Does the Draft Grasslands Plan clearly state what ecological, economic, and social conditions are desired and why?

3. Can the Draft Grasslands Plan be implemented as written? If not, what changes are needed and what obstacles exist?

4. Is there additional, relevant scientific information that could be used in the analyses?

5. Would implementing the Draft Grasslands Plan lead to the achievement of the desired conditions? If not, tell us why not, and what changes are needed.

6. Is the Draft Grasslands Plan clear about what steps (objectives) will be taken to achieve or maintain the stated desired conditions? If not, what needs to be changed and how?

7. Do you believe that underlying assumptions and analyses that were used in developing the Draft Grasslands Plan are correct and based on factual information?

8. Have possible negative consequences, risks, or uncertainties been adequately considered? If not, what changes are needed?

9. Is the Draft Grasslands Plan consistent with laws, policies, and the multiple-use mission of the USDA Forest Service?

Please note that all comments, names, and addresses become part of the public record and are subject to FOIA, except for proprietary documents and information. If there is a possibility that you will file an objection during the objection process, we recommend that the names and addresses of the interested parties are included with the comments.

Comments should meet the following requirements:

1. State that the comment is filed in response to the 90-day comment period for the Draft Cimarron and Comanche National Grasslands Land Management Plan (Draft Grasslands Plan).

2. Identify the title of the document that your comment is a response to.

3. Clearly state your comment and include reasons, recommendations, and supporting information.

Comments must be postmarked by April 3, 2006. Comments can be sent by mail to: CC Grasslands Plan, 225 Bush Street, Suite 1700, San Francisco, CA 94104-4207. Comments by e-mail should be sent to: ccgrassplan@caet.esassoc.com. Comments may also be faxed to: 415-896-0332.

Dated: December 21, 2005.
Robert J. Leaverton,
Forest Supervisor.

[FR Doc. 05-24645 Filed 12-29-05; 8:45 am]

BILLING CODE 3410-ES-M